DEPARTMENT OF HEALTH AND HUMAN SERVICES

Office of the National Coordinator for Health Information Technology; American Health Information Community Personalized Healthcare Workgroup Meeting

ACTION: Announcement of meeting.

SUMMARY: This notice announces the fourth meeting of the American Health Information Community Personalized Healthcare Workgroup in accordance with the Federal Advisory Committee Act (Pub. L. No. 92-463, 5 U.S.C., App.)

DATES: April 17, 2007, from 1 p.m. to 4 p.m. Eastern Daylight Time.

ADDRESSES: Mary C. Switzer, Building (330 C Street, SW., Washington, DC 20201), Conference Room 4090 (please bring photo ID for entry to a Federal building).

FOR FURTHER INFORMATION CONTACT: http://www.hhs.gov/healthit/ahic/healthcare/.

SUPPLEMENTARY INFORMATION: The Workgroup will discuss possible common data standards to incorporate interoperable, clinically useful genetic laboratory test data, family history information, and analytical tooks into Electronic Health Records (EHR) to support clinical decision-making for the health care provider and patient. Instructions to participate via Web cast are posted at http://www.hhs.gov/healthit/ahic/healthcare/phc_instruct.html.

Dated: March 26, 2007.
Judith Sparrow,
Director, American Health Information Community, Office of Programs and Coordination, Office of the National Coordinator for Health Information Technology.

[FR Doc. 07-1583 Filed 3-30-07; 8:45 am]

BILLING CODE 4150-24-M